Proclamation 8144 of May 11, 2007

Peace Officers Memorial Day and Police Week, 2007

By the President of the United States of America

A Proclamation

In every American community, committed law enforcement officers watch over our neighborhoods and work to make our Nation a safer, more peaceful place. As we observe Peace Officers Memorial Day and Police Week, we honor the men and women who serve the cause of justice, and we pay tribute to those who have lost their lives in the line of duty.

By taking an oath to serve and protect their fellow citizens, law enforcement officers answer a vital calling and accept a profound responsibility. These extraordinary Americans work to uphold our laws and serve on the front lines in the fight against crime and terrorism.

We owe a lasting debt to those who sacrificed their lives while serving and protecting our fellow citizens. These fallen officers live on in our national memory as Americans whose courage and commitment have shown the true meaning of heroism. We offer our respect and prayers to their loved ones.

On Peace Officers Memorial Day and during Police Week, we recognize and honor the service and sacrifice of the men and women whose devotion to duty brings honor to our system of justice and makes America a better place.

By a joint resolution approved October 1, 1962, as amended, (76 Stat. 676), the Congress has authorized and requested the President to designate May 15 of each year as “Peace Officers Memorial Day” and the week in which it falls as “Police Week,” and by Public Law 103-322, as amended, (36 U.S.C. 136), has directed that the flag be flown at half staff on Peace Officers Memorial Day.

NOW, THEREFORE, I, GEORGE W. BUSH, President of the United States of America, do hereby proclaim May 15, 2007, as Peace Officers Memorial Day and May 13 through May 19, 2007, as Police Week. I call on all Americans to observe these events with appropriate ceremonies and activities. I also call on Governors of the United States and the Commonwealth of Puerto Rico, as well as appropriate officials of all units of government, to direct that the flag be flown at half staff on Peace Officers Memorial Day. I further encourage all Americans to display the flag at half staff from their homes and businesses on that day.

IN WITNESS WHEREOF, I have hereunto set my hand this eleventh day of May, in the year of our Lord two thousand seven, and of the Independence of the United States of America the two hundred and thirty-first.

[FR Doc. 07-2416

Filed 5-14-07; 9:08 am]

Billing code 3195-01-P